DEPARTMENT OF LABOR

Office of the Secretary

Notice of Publication of 2014 Update to the Department of Labor's List of Goods Produced by Child Labor or Forced Labor

AGENCY: Bureau of International Labor Affairs, Department of Labor.

ACTION: Announcement of public availability of updated list of goods.

SUMMARY: This notice announces the publication of an updated list of goods—along with countries of origin—that the Bureau of International Labor Affairs (ILAB) has reason to believe are produced by child labor or forced labor in violation of international standards (the List). ILAB is required to develop and make available to the public the List pursuant to the Trafficking Victims Protection Reauthorization Act (TVPRA) of 2005, as amended.

FOR FURTHER INFORMATION CONTACT: Director, Office of Child Labor, Forced Labor, and Human Trafficking, Bureau of International Labor Affairs, U.S. Department of Labor, at (202) 693-4843 (this is not a toll-free number).

SUPPLEMENTARY INFORMATION: ILAB announces the publication of the sixth edition of the List of Goods Produced by Child Labor or Forced Labor, pursuant to the TVPRA of 2005, as amended. ILAB published the initial List on September 10, 2009, and has since published updated editions annually. Beginning this year, ILAB will update and publish the List every other year, pursuant to changes in the law enacted in 2013. See 22 U.S.C. 7112(b). The 2014 edition adds two new goods (alcoholic beverages and meat), and one new country (Yemen) to the List.

Section 105(b) of the TVPRA mandates that ILAB develop and publish a list of goods from countries that ILAB “has reason to believe are produced with child labor or forced labor in violation of international standards.” 22 U.S.C. 7112(b)(2). ILAB's Office of Child Labor, Forced Labor, and Human Trafficking carries out this mandate. The primary purposes of the List are to raise public awareness about the incidence of child labor and forced labor in the production of goods in the countries listed and to promote efforts to eliminate such practices. A full report, including the updated List and a discussion of the List's methodology, as well as Frequently Asked Questions and a bibliography of sources, are available on the Department of Labor Web site at: http://www.dol.gov/ilab/reports/child-labor/list-of-goods/.

Signed at Washington, DC, this 14th day of November 2014.
Carol Pier,
Deputy Undersecretary for International Affairs.

[FR Doc. 2014-27623 Filed 11-28-14; 8:45 am]

BILLING CODE 4510-28-P